ENVIRONMENTAL PROTECTION AGENCY

[FRL-7150-5]

Request for Nominations to the Good Neighbor Environmental Board

AGENCY: Environmental Protection Agency (EPA).

ACTION: Notice of request for nominations.

SUMMARY: The U.S. Environmental Protection Agency (EPA) invites nominations to fill several potential vacancies on the Good Neighbor Environmental Board (GNEB), a federal advisory committee that reports to the President and Congress on environmental infrastructure issues along the U.S. border with Mexico. Under Executive Order, responsibility for committee management was delegated to the Administrator of EPA. The Agency seeks qualified senior-level decision makers from diverse sectors living in one of the four U.S. border states to be considered for appointments. EPA expects to make new appointments or reappointments by the end of May, 2002 and encourages nomination submissions by March 31, 2002.

CONTACT: Submit nominations to Elaine M. Koerner, Designated Federal Officer, Good Neighbor Environmental Board (see below for contact details).

SUPPLEMENTARY INFORMATION: GNEB is a federal advisory committee authorized under section 6 of the Enterprise for the Americas Initiative Act, 7 U.S.C. Section 5404. Board members include representatives from eight federal government agencies and from each of the four U.S. border states—Arizona, California, New Mexico, and Texas. The combined expertise at the table reflects perspectives from many U.S. sectors including federal, tribal, state, and local government; non-governmental; academic institutions; and businesses. It meets three times a year at various border locations.

Good Neighbor submits its advice to the President and Congress in the form of reports containing recommendations for action. It also issues occasional comment letters on timely topics. The Board is managed by the U.S. Environmental Protection Agency under the provisions of the Federal Advisory Committee Act (FACA). Its meetings are open to the public.

Recruitment of new members is based on a goal of maintaining a balance and diversity of experience, knowledge, and judgement. Continued representation from many sectors to achieve broad-based, nonpartisan consensus remains a key consideration in member selection. New member appointments and reappointments are made by EPA Administrator Christine Todd Whitman.

Representatives from state, local and tribal agencies, industry, academia, environmental justice organizations, grassroots organizations, NGOs, and other groups are encouraged to submit applications. Potential candidates should possess the following qualifications:

Senior responsibilities within their organization

Broad experience outside of their current position

Experience dealing with public policy issues

Membership in broad-based networks

Extensive experience in environmental issues along the U.S.-Mexico border

Recognized expertise in one or more major border-region issues

Nominations for membership must include a resume and a short biography describing the educational and professional qualifications of the nominee, as well as the nominee's current contact information. This information should include business address, phone, fax, and e-mail. For those who self-nominate, a letter of support from a reference is encouraged.

FOR FURTHER INFORMATION CONTACT: Elaine M. Koerner, Designated Federal Officer for GNEB, U.S. Environmental Protection Agency (1601A), 1200 Pennsylvania Avenue, NW., Washington, DC 20460; telephone (202) 564-1484, e-mail: koerner.elaine@epa.gov

Dated: February 15, 2002.
Elaine M. Koerner,
Designated Federal Officer.

[FR Doc. 02-4646 Filed 2-26-02; 8:45 am]

BILLING CODE 6560-50-P